COMMISSION ON CIVIL RIGHTS

Notice of Public Meetings of the Pennsylvania Advisory Committee to the U.S. Commission on Civil Rights

AGENCY: U.S. Commission on Civil Rights.

ACTION: Announcement of meetings.

SUMMARY: Notice is hereby given, pursuant to the provisions of the rules and regulations of the U.S. Commission on Civil Rights (Commission) and the Federal Advisory Committee Act that the Pennsylvania Advisory Committee (Committee) to the U.S. Commission on Civil Rights will hold a Zoom meeting on Tuesday December 13, 2022 from 2 p.m.-3 p.m. eastern time. The purpose of the meeting is to discuss/debrief of themes that have emerged from the Committee testimony on zoning practices and fair housing in the commonwealth.

DATES: Tuesday December 13, 2022 from 2 p.m.-3 p.m. eastern time.

ADDRESSES:

Registration (Audio/Visual): http://bit.ly/3tP9pi9.

Telephone (Audio Only): (833) 435-1820 Toll Free; Meeting ID: 161 750 6864.

FOR FURTHER INFORMATION CONTACT: Melissa Wojnaroski, DFO, at mwojnaroski@usccr.gov or (202) 618-4158.

SUPPLEMENTARY INFORMATION: Members of the public may listen to these discussions. Committee meetings are available to the public through the above listed online registration link. An open comment period will be provided to allow members of the public to make a statement as time allows. Callers can expect to incur regular charges for calls they initiate over wireless lines, according to their wireless plan. The Commission will not refund any incurred charges. Closed captions will be provided. Individuals with disabilities requiring other accommodations may contact Corrine Sanders at csanders@usccr.gov 10 days prior to the meeting to make their request.

Members of the public are also entitled to submit written comments; the comments must be received in the regional office within 30 days following the meeting. Written comments may be emailed to csanders@usccr.gov. Persons who desire additional information may contact the Regional Programs Unit at (202) 618-4158.

Records generated from this meeting may be inspected and reproduced as they become available, both before and after the meeting. Records of the meeting will be available via www.facadatabase.gov under the Commission on Civil Rights, Pennsylvania Advisory Committee link. Persons interested in the work of this Committee are directed to the Commission's website, http://www.usccr.gov, or may contact the Regional Programs Unit at the above email address.

Agenda

Welcome and Roll Call

Discussion: Civil Rights and Fair Housing in Pennsylvania

Public Comment

Adjournment

Dated: November 22, 2022.
David Mussatt,
Supervisory Chief, Regional Programs Unit.

[FR Doc. 2022-25940 Filed 11-28-22; 8:45 am]

BILLING CODE 6335-01-P